DEPARTMENT OF DEFENSE

Office of the Secretary

[Transmittal No. 16-22]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Heather N. Harwell, DSCA/LMO, (703) 697-9217.

The following is a copy of a letter to the Speaker of the House of Representatives, Transmittal 16-22 with attached Policy Justification.

Dated: May 4, 2016.
Aaron Siegel,
Alternate OSD Federal Register Liaison Officer, Department of Defense.

Transmittal No. 16-22

Notice of Proposed Issuance of Letter of Offer Pursuant to Section 36(b)(1) of the Arms Export Control Act, as amended

(i) Prospective Purchaser: Government of France

(ii) Total Estimated Value:

Major Defense Equipment* | $60 million
Other | $30 million
TOTAL | $90 million

(iii) Description and Quantity or Quantities of Articles or Services under Consideration for Purchase:

Major Defense Equipment (MDE):Twenty-one (21) Guided Multiple Launch Rocket System (GMLRS) Unitary Rocket Pods (six (6) rockets per pod for a total of one-hundred and twenty-six (126))

Non-MDE:Also included are a GMLRS Unitary Quality Assurance Team (QAT), GMLRS publications, live fire data, software updates, and technical assistance.

(iv) Military Department: U.S. Army (WAN)

(v) Prior Related Cases, if any: None

(vi) Sales Commission, Fee, etc., Paid, Offered, or Agreed to be Paid: None

(vii) Sensitivity of Technology Contained in the Defense Article or Defense Services Proposed to be Sold: See Attached Annex.

(viii) Date Report Delivered to Congress: 12 April 2016

* as defined in Section 47(6) of the Arms Export Control Act.

POLICY JUSTIFICATION

France—Guided Multiple Launch Rocket System (GMLRS) Unitary Rocket Pods and Related Support

The Government of France has requested a possible sale of twenty-one (21) GMLRS Unitary Rocket Pods. Also included are a GMLRS Quality Assurance Team (QAT), GMLRS publications, live fire data, software updates, and technical assistance. The total estimated value of MDE is $60 million. The overall total estimated value is $90 million.

This proposed sale will enhance the foreign policy and national security objectives of the United States by helping to improve the security of a NATO ally which has been, and continues to be an important force for political stability and economic progress. It is vital to the U.S. national interest to assist France to develop and maintain a strong and ready self-defense capability.

France intends to use these missiles to expand its existing army architecture and improve its self-defense capabilities. France is a co-developer of the GMLRS and has operational requirements for additional missiles. France will have no difficulty absorbing this equipment into its armed forces.

The proposed sale of this equipment and support will not alter the basic military balance in the region.

The U.S. Army procured the GMLRS Unitary from Lockheed Martin Industries, Camden, Arkansas. The sale of these GMLRS Unitary will be from U.S. stock; therefore, Lockheed Martin will not be involved. There are no known offset agreements proposed in connection with this potential sale.

Implementation of this proposed sale will require U.S. Government and contractor representatives to travel to France for equipment de-processing, fielding, system checkout, and new equipment training.

There will be no adverse impact on U.S. defense readiness as a result of this proposed sale.

Transmittal No. 16-22

Notice of Proposed Issuance of Letter of Offer Pursuant to Section 36(b)(1) of the Arms Export Control Act, as amended

Annex

Item No. vii

(vii) Sensitivity of Technology:

1. The Guided Multiple Launch Rocket System (GMLRS) M31 Unitary is the Army's primary munition for units fielding the High Mobility Artillery Rocket Systems (HIMARS) and Multiple Launcher Rocket Systems (MLRS) M270A1 Rocket and Missile Launcher platforms. The M31 Unitary is a solid propellant artillery rocket that uses Global Positioning System (GPS)-aided inertial guidance to accurately and quickly deliver a single high-explosive blast fragmentation warhead on to point targets at ranges from 15 to 70 kilometers. The rockets are fired from a launch pod container that also serves as the storage and transportation container for the rockets. Each rocket pod holds six (6) total rockets.

2. The GMLRS Unitary employs a multi-mode fuze consisting of an Electronic Safe and Arm Fuze (ESAF) and a Frequency-Modulating Continuous Wave-Directional Doppler Ranging (FMCW-DDR) height-of-burst sensor. The weapon has three fuzing modes—point detonating, post-impact time delay, and proximity height of burst—which are all accomplished automatically via a launcher/fire control system electrical interface prior to launch. The height-of-burst sensor is not integrated with the fuze, but provides fire pulse input and interfaces with a mechanical fuze.

3. The Army's FMCW-DDR height-of-burst technology comprises components and software requiring special production skills and is deemed state of the art. The sensitive aspects of the technology reside primarily in the design, development, production, and manufacturing data for the related components (integrated circuits and flex cable assembly) and in the methodology required to integrate those components onto the flex cable assembly to process embedded data (the software, algorithm, and operating parameters). The sole technology aspect of the FMCW-DDR present in the M31 proximity height-of-burst sensor is the signal processing algorithm (i.e. processing techniques) modified specifically for use in the M31. The disclosure of know-how, software, and other associated documentation for this sensitive technology is not authorized under this sale.

4. A determination has been made that Government of France can provide the same degree of protection for the sensitive technology being released as the U.S. Government. This sale is necessary in furtherance of the U.S. foreign policy and national security objectives outlined in the Policy Justification.

5. All defense articles and services listed in this transmittal have been authorized for release and export to the Government of France.

[FR Doc. 2016-10890 Filed 5-9-16; 8:45 am]

BILLING CODE 5001-06-P